DEPARTMENT OF HEALTH AND HUMAN SERVICES

Centers for Disease Control and Prevention (CDC)

[CDC-2013-0024, Docket Number NIOSH-270]

NIOSH Center for Motor Vehicle Safety: Research and Guidance Strategic Plan 2014-2018

AGENCY: National Institute for Occupational Safety and Health (NIOSH) of the Centers for Disease Control and Prevention (CDC), Department of Health and Human Services (HHS).

ACTION: Notice of draft document for public comment.

SUMMARY: The National Institute for Occupational Safety and Health of the Centers for Disease Control and Prevention announces the availability of a draft document entitled NIOSH Center for Motor Vehicle Safety: Research and Guidance Strategic Plan 2014-2018 for public comment. To view the notice and related materials, visit http://www.regulations.gov and enter CDC-2013-0024 in the search field and click “Search.”

Public comment period: Comments must be received within 30 days from publication of the Federal Register Notice.

ADDRESSES: You may submit comments, identified by CDC-2013-0024 and Docket Number NIOSH-270, by either of the following two methods:

• Federal eRulemaking Portal: https://www.regulations.gov. Follow the instructions for submitting comments.

• Mail: NIOSH Docket Office, Robert A. Taft Laboratories, 4676 Columbia Parkway, MS C-34, Cincinnati, Ohio 45226.

Instructions: All information received in response to this notice must include the agency name and docket number (CDC-2013-0024; NIOSH-270). All relevant comments received will be posted without change to http://www.regulations.gov, including any personal information provided. All electronic comments should be formatted as Microsoft Word. Please make reference to CDC-2013-0024 and Docket Number NIOSH-270.

SUPPLEMENTARY INFORMATION: The purpose of this review is to receive public comments and input on the NIOSH Center for Motor Vehicle Safety: Research and Guidance Strategic Plan for the period 2014-2018. NIOSH is seeking comments on: (1) The relevance of the current draft; (2) the adequacy of the plan in addressing research needs for work-related motor vehicle crashes and fatal/non-fatal injuries; (3) the adequacy of proposed performance measures; and (4) additional potential partners the NIOSH Center for Motor Vehicle Safety could engage with to enhance the relevance and capacity of the Center's program.

Background: Fatality data show that across all industries, motor vehicle-related incidents are consistently the leading cause of work-related fatalities, and they are the first or second leading cause in every major industry sector. The NIOSH Center for Motor Vehicle Safety is the focal point for research and prevention activities within the Institute to reduce work-related motor vehicle crashes and resulting injuries. The goals for the NIOSH Center for Motor Vehicle Safety were developed based on: (1) Consideration of research gaps based on review of the scientific literature, employer policies, and government regulations; (2) a review of related goals in the NIOSH sector and cross-sector programs; and (3) consideration of the research areas where NIOSH is best-positioned to add to the knowledge base on work-related motor vehicle safety. The draft goals address the following areas:

(1) Epidemiologic research to identify risk factors associated with work-related motor vehicle crashes and injury

(2) Engineering and technology-related research

(3) Research and demonstration projects on motor vehicle safety management strategies

(4) Global collaborations to develop strategies for reducing occupational road traffic injuries worldwide

(5) Research communication products

FOR FURTHER INFORMATION CONTACT: Stephanie Pratt, Ph.D., NIOSH, Division of Safety Research, Mailstop H-1808, 1095 Willowdale Road, Morgantown, West Virginia 26505-2888. Dr. Pratt may be contacted at (304) 285-5992 or by email at sgp2@cdc.gov.

Dated: January 31, 2014.
John Howard,
Director, National Institute for Occupational Safety and Health, Centers for Disease Control and Prevention.

[FR Doc. 2014-02524 Filed 2-5-14; 8:45 am]

BILLING CODE 4163-19-P